AGENCY FOR INTERNATIONAL DEVELOPMENT

USAID 2025 Digital Development Awards Application

AGENCY: Agency for International Development (USAID).

ACTION: Notice of information collection.

SUMMARY: The U.S. Agency for International Development's Innovation, Technology, and Research Hub invites the general public to review this new information collection. This survey is administered by the USAID Innovation, Technology, and Research Hub's Technology Division. Responses to this survey will be used to select the winners of the 2025 Digital Development Awards once the application opens next year. The Digital Development Awards recognize and celebrate USAID-funded projects and activities that harness the power of digital technology to promote inclusive growth.

DATES: All comments should be submitted in writing by January 14, 2025.

ADDRESSES: To access and review the Google Form, please visit https://docs.google.com/forms/d/e/1FAIpQLSc2oCYXZ5A-PQNzIu952vKo8Cw7-9FELYT2Myuw5x4Z_LrvRg/viewform. Interested persons are invited to submit comments regarding the proposed information collection to digitaldevelopment@usaid.gov.

FOR FURTHER INFORMATION CONTACT: For specific questions related to this collection, please contact John O'Bryan at jobryan@usaid.gov or 202-216-3443.

SUPPLEMENTARY INFORMATION: The Digital Development Awards recognize and celebrate USAID-funded projects and activities that embrace the Agency's strategic goals of improving development and humanitarian assistance outcomes through the use of digital technology and strengthening open, secure, and inclusive digital ecosystems.

John O'Bryan,
Knowledge & Insights Team Lead, USAID Innovation, Technology, and Research Hub.

[FR Doc. 2024-26186 Filed 11-14-24; 8:45 am]

BILLING CODE 6116-01-P